INTERNATIONAL TRADE COMMISSION

Certain Pipe and Tube From Argentina, Brazil, Canada, India, Korea, Mexico, Singapore, Taiwan, Thailand, Turkey, and Venezuela ¹

¹ The products and investigation numbers for the various countries are: Argentina: light-walled rectangular tube (731-TA-409); Brazil: circular welded nonalloy steel pipe (731-TA-532); Canada: oil country tubular goods (731-TA-276); India: welded carbon steel pipe and tube (731-TA-271); Korea: circular welded nonalloy steel pipe (731-TA-533); Mexico: circular welded nonalloy steel pipe (731-TA-534); Singapore: small diameter standard and rectangular pipe and tube (731-TA-296); Taiwan: small diameter carbon steel pipe and tube (731-TA-132), oil country tubular goods (731-TA-277), light-walled rectangular tube (731-TA-410), and circular welded nonalloy steel pipe (731-TA-536); Turkey: welded carbon steel pipe and tube (701-TA-253 and 731-TA-273); Thailand: welded carbon steel pipe and tube (731-TA-252); and Venezuela: circular welded nonalloy steel pipe (731-TA-537).

AGENCY: United States International Trade Commission.

ACTION: Revised schedule for the subject 5-year reviews.

EFFECTIVE DATE: March 24, 2000.

FOR FURTHER INFORMATION CONTACT: Brian R. Allen (202-708-4728), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On September 28, 1999, the Commission established a schedule for the conduct of the subject 5-year reviews (64 FR 54354, October 6, 1999). The Commission has determined to exercise its authority to extend the review period by up to 90 days pursuant to 19 U.S.C. 1675(c)(5)(B), and is hereby revising its schedule.

The Commission's new schedule for the reviews is as follows: the Commission will make its final release of information on May 30, 2000; and final party comments are due on June 1, 2000.

For further information concerning the reviews see the Commission's notice cited above and the Commission's Rules of Practice and Procedure, part 201, subparts A through E (19 CFR part 201), and part 207, subparts A and F (19 CFR part 207).

Authority: These reviews are being conducted under authority of title VII of the Tariff Act of 1930; this notice is published pursuant to section 207.21 of the Commission's rules.

Issued: March 24, 2000.
By order of the Commission.
Donna R. Koehnke,
Secretary.

[FR Doc. 00-8029 Filed 3-30-00; 8:45 am]

BILLING CODE 7020-02-P